DEPARTMENT OF COMMERCE

National Oceanic and Atmospheric Administration

[RTID 0648-XC820]

New England Fishery Management Council; Public Meeting

AGENCY: National Marine Fisheries Service (NMFS), National Oceanic and Atmospheric Administration (NOAA), Commerce.

ACTION: Notice of public meeting.

SUMMARY: The New England Fishery Management Council is convening its Scientific and Statistical Committee (SSC) via webinar to consider actions affecting New England fisheries in the exclusive economic zone (EEZ). Recommendations from this group will be brought to the full Council for formal consideration and action, if appropriate.

DATES: This webinar will be held on Wednesday, March 29, 2023, beginning at 9 a.m. Webinar registration information: https://attendee.gotowebinar.com/register/4961240985261714005. Call in information: 1 (415) 655-0052, Access Code: 950-160-283.

ADDRESSES:

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scientific and Statistical Committee will meet to receive a presentation on the Northeast Fisheries Science Center's State of the Ecosystem Report and make any recommendations for improvements. They will also receive a presentation on and discuss a research collaboration of NOAA Fisheries and University of Massachusetts School for Marine Science and Technology to understand how portfolio theory can facilitate ecosystem-based fisheries management and provide feedback to the project team. They will discuss providing feedback to the Council on the performance metrics and indicators under development by the Groundfish Plan Development Team to review the revised monitoring program, including the increased at-sea monitoring coverage target, implemented through Amendment 23 to the Northeast Multispecies Fishery Management Plan. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 3, 2023.
Rey Israel Marquez,
Acting Deputy Director, Office of Sustainable Fisheries, National Marine Fisheries Service.

[FR Doc. 2023-04778 Filed 3-7-23; 8:45 am]

BILLING CODE 3510-22-P